DEPARTMENT OF TRANSPORTATION

Federal Aviation Administration

14 CFR Part 71

[Docket No. FAA-2014-0273; Airspace Docket No. 14-ANE-2]

RIN 2120-AA66

Proposed Amendment of Air Traffic Service (ATS) Routes; Northeast ME

AGENCY: Federal Aviation Administration (FAA), DOT.

ACTION: Notice of proposed rulemaking (NPRM).

SUMMARY: This action proposes to modify VOR Federal airways V-93, V-314, V-471 and RNAV route T-295 in northeastern Maine due to the scheduled decommissioning of the Princeton, ME, VOR facility. After an analysis of the airway structure the FAA found that portions of the ATS routes around the Princeton, ME, VOR navaid, were rarely utilized and would be removed to further the safe and efficient flow of air traffic within the National Airspace System.

DATES: Comments must be received on or before July 7, 2014.

ADDRESSES: Send comments on this proposal to the U.S. Department of Transportation, Docket Operations,M-30, 1200 New Jersey Avenue SE., West Building Ground Floor, Room W12-140, Washington, DC 20590-0001; telephone: (202) 366-9826. You must identify FAA Docket No. FAA-2014-0273 and Airspace Docket No. 14-ANE-2 at the beginning of your comments. You may also submit comments through the Internet at http://www.regulations.gov.

FOR FURTHER INFORMATION CONTACT: Paul Gallant, Airspace Policy and Regulations Group, Office of Airspace Services, Federal Aviation Administration, 800 Independence Avenue SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2014-0273 and Airspace Docket No. 14-ANE-2) and be submitted in triplicate to the Docket Management Facility (see ADDRESSES section for address and phone number). You may also submit comments through the Internet at http://www.regulations.gov.

Commenters wishing the FAA to acknowledge receipt of their comments on this action must submit with those comments a self-addressed, stamped postcard on which the following statement is made: “Comments to FAA Docket No. FAA-2014-0273 and Airspace Docket No. 14-ANE-2.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the Internet at http://www.regulations.gov.

You may review the public docket containing the proposal, any comments received and any final disposition in person in the Dockets Office (see ADDRESSES section for address and phone number) between 9:00 a.m. and 5:00 p.m., Monday through Friday, except Federal holidays. An informal docket may also be examined during normal business hours at the office of the Eastern Service Center, Federal Aviation Administration, Room 210, 1701 Columbia Ave., College Park, GA, 30337.

Persons interested in being placed on a mailing list for future NPRMs should contact the FAA's Office of Rulemaking, (202) 267-9677, for a copy of Advisory Circular No. 11-2A, Notice of Proposed Rulemaking Distribution System, which describes the application procedure.

The Proposal

The FAA is proposing an amendment to Title 14, Code of Federal Regulations (14 CFR) part 71 to modify the descriptions of VOR Federal airways V-93, V-314, V-471 and RNAV route T-295 due to the planned decommissioning of the Princeton, ME, VOR.

An analysis of the airway structure around the Princeton VOR found that the airways are rarely utilized in that area. After coordination with Boston Air Route Traffic Control Center, Bangor Airport Traffic Control Tower, and Moncton Center (Canada), the FAA is proposing to remove the underutilized segments of the affected airways. The proposed changes are described below.

V-93 extends between Patuxent River, MD, and the intersection of the Princeton, ME, 157° radial and the United States/Canadian border. The FAA proposes to terminate the route at the Bangor, ME, VORTAC (BGR), eliminating the route segments between BGR and the United States/Canadian border.

V-314 extends from Quebec, PQ, Canada, through United States airspace, to St. John, NB, Canada. This proposal would terminate the route at Millinocket, ME, and eliminate the segments between Millinocket, Princeton, ME, and St. John, NB, Canada.

V-471 extends between the intersection of the Princeton, ME, 208° and the Bangor, ME, 132° radials (i.e., the charted BARHA fix) and the intersection of the Houlton, ME, 085° radial and the United States/Canadian border. This action would remove the route segment between the Bangor VORTAC and the BARHA fix.

T-295 extends between the LOUIE, MD, fix and the Princeton, ME, VOR/DME. The amended route would terminate at Bangor, ME, eliminating the segment between Bangor and Princeton, ME.

All radials in the route descriptions below are stated in True degrees.

VOR Federal airways are published in paragraph 6010, and area navigation routes are published in paragraph 6011, respectively, of FAA Order 7400.9X dated August 7, 2013, and effective September 15, 2013, which is incorporated by reference in 14 CFR 71.1. The VOR Federal airways and RNAV route listed in this document would be subsequently published in the Order.

The FAA has determined that this proposed regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it would amend the route structure as required to preserve the safe and efficient flow of air traffic within the northeastern United States.

Environmental Review

This proposal will be subject to an environmental analysis in accordance with FAA Order 1050.1E, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9X, Airspace Designations and Reporting Points, dated August 7, 2013 and effective September 15, 2013, is amended as follows:

Paragraph 6010 Domestic VOR Federal airways.

V-93 [Amended]

From Patuxent River, MD, INT Patuxent 013° and Baltimore, MD, 122° radials; Baltimore; INT Baltimore 004° and Lancaster, PA, 214° radials; Lancaster; Wilkes-Barre, PA; to INT Wilkes-Barre 037° and Sparta, NJ 300° radials. From INT Sparta 018° and Kingston, NY, 270° radials; Kingston; Pawling, NY; Chester, MA, 12 miles 7 miles wide (4 miles E and 3 miles W of centerline); Keene, NH; Concord, NH; Kennebunk, ME; INT Kennebunk 045° and Bangor, ME, 220° radials; to Bangor.

V-314 [Amended]

From Quebec, PQ, Canada, 99 miles 55 MSL, to Millinocket, ME, excluding the airspace within Canada.

V-471 [Amended]

From Bangor, ME; Millinocket, ME; Houlton, ME; INT Houlton 085° and the United States/Canadian border.

Paragraph 6011 United States area navigation routes.

T-295 Louie, MD to Bangor, ME (BGR) [Amended]
LOUIE, MD | FIX | (Lat. 38°36′44″ N., long. 076°18′04″ W.)
BAABS, MD | WP | (Lat. 39°19′51″ N., long. 076°24′41″ W.)
Lancaster, PA (LRP) | VORTAC | (Lat. 40°07′12″ N., long. 076°17′29″ W.)
Wilkes-Barre, PA (LVZ) | VORTAC | (Lat. 41°16′22″ N., long. 075°41′22″ W.)
LAAYK, PA | FIX | (Lat. 41°28′33″ N., long. 075°28′57″ W.)
SAGES, NY | FIX | (Lat. 42°02′46″ N., long. 074°19′10″ W.)
SASHA, MA | FIX | (Lat. 42°07′59″ N., long. 073°08′55″ W.)
Keene, NH (EEN) | VORTAC | (Lat. 42°47′39″ N., long. 072°17′30″ W.)
Concord, NH (CON) | VORTAC | (Lat. 43°13′11″ N., long. 071°34′32″ W.)
Kennebunk, ME (ENE) | VOR/DME | (Lat. 43°25′32″ N., long. 070°36′49″ W.)
BRNNS, ME | FIX | (Lat. 43°54′09″ N., long. 069°56′43″ W.)
Bangor, ME (BGR) | VORTAC | (Lat. 44°50′30″ N., long. 068°52′26″ W.)

Issued in Washington, DC, on May 13, 2014.
Gary A. Norek,
Manager, Airspace Policy and Regulations Group.

[FR Doc. 2014-11777 Filed 5-20-14; 8:45 am]

BILLING CODE 4910-13-P